DEPARTMENT OF THE INTERIOR

Bureau of Land Management

[LLCOS00000-L12200000.DF0000-20X.HAG 20-0071]

Notice of Public Meetings, Western Oregon Resource Advisory Council

AGENCY: Bureau of Land Management, Interior.

ACTION: Notice of public meetings.

SUMMARY: In accordance with the Federal Land Policy and Management Act and the Federal Advisory Committee Act of 1972, the U.S. Department of the Interior, Bureau of Land Management (BLM), Western Oregon Resource Advisory Council (RAC) will meet as indicated below.

DATES: The Western Oregon RAC has scheduled its meetings for September 23 and 24, 2020, and December 8 and 9, 2020. The September 23 meeting will begin at 9 a.m. and adjourn at approximately 4 p.m. The September 24 meeting will begin at 9 a.m. and adjourn at approximately 2 p.m. The December 8 meeting will begin at 9 a.m. and adjourn at approximately 4 p.m. The December 9 meeting will begin at 9 a.m. and adjourn at approximately 2 p.m. The meetings will be held virtually if public health restrictions remain in place.

ADDRESSES: The September 23 and 24, 2020 meeting will be held in Springfield at the Springfield Interagency Office, 3106 Pierce Parkway, Springfield, OR 97477 and the December 8 and 9, 2020 meeting will be held in Roseburg at the BLM Roseburg District Office, 777 NW Garden Valley Boulevard, Roseburg, OR 97471.

FOR FURTHER INFORMATION CONTACT: Kyle Sullivan, Public Affairs Specialist, Medford District, 3040 Biddle Road, Medford, OR 97504. Phone: 541-618-2340. Email: ksullivan@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member Western Oregon RAC advises the Secretary of the Interior, through the BLM, on a variety of public land issues across public lands in western Oregon, including the Coos Bay, Medford, Northwest Oregon, and Roseburg Districts and part of the Lakeview District. Topics of discussion for these meetings include Secure Rural Schools (SRS) Title II funding, recreation, recreation fee proposals, fire management, land use planning, invasive species management, timber management, travel management, wilderness, cultural resource management, and other issues as appropriate.

The September agenda includes member introductions, election of a chair, overview of the newly established RAC's role and governing legislation, including an overview of the SRS Title II funding process.

The December meeting will focus on the review and recommendation of project proposals for funding under the SRS Title II legislation.

The meetings are open to the public, and a public comment period will be held at each meeting. Depending on the number of persons wishing to comment and the time available, time allotted for individual oral comments may be limited. A virtual public meeting may be offered. Written comments submitted 5 business days prior to the meeting will be provided to the members for consideration during the meeting.

Before including your address, phone number, email address, or other personal identifying information in your comment, you should be aware that your entire comment—including your personal identifying information—may be made publicly available at any time. While you can ask us in your comment to withhold your personal identifying information from public review, we cannot guarantee that we will be able to do so.

Minutes for the RAC meetings will be maintained in the Medford District Office and will be available for public inspection and reproduction during regular business hours within 30 days following the meeting. Previous minutes, membership information, and upcoming agendas are available at: https://www.blm.gov/get-involved/resource-advisory-council/near-you/oregon-washington.

Authority: 5 U.S.C. Appendix 2.

Kathryn J. Stangl,
Acting Associate State Director, Oregon/Washington.

[FR Doc. 2020-15567 Filed 7-17-20; 8:45 am]

BILLING CODE 4310-JB-P